DEPARTMENT OF THE INTERIOR

Bureau of Land Management

[LLWYD01000-2009-LL13100000-NB0000-LXSI016K0000]

Notice of Intent To Solicit Nominations: Pinedale Anticline Working Group, Wyoming

AGENCY: Bureau of Land Management, Interior.

ACTION: Notice of call for nominations.

SUMMARY: Nominations are being solicited for two positions on the Pinedale Anticline Working Group (PAWG) that will become open on May 28, 2010.

DATES: Individuals or groups wishing to submit a nomination must send the required information within 30 days of this Notice. All nominations should be postmarked within 30 days from date of publication in the Federal Register. Final appointments will be made by the Secretary of the Interior.

ADDRESSES: Nominations should be sent to Ms. Shelley Gregory, Bureau of Land Management, Pinedale Field Office, 1625 West Pine Street, P.O. Box 768, Pinedale, Wyoming 82941, or e-mailed to shelley_gregory@blm.gov.

FOR FURTHER INFORMATION CONTACT: Ms. Shelley Gregory, Bureau of Land Management, Pinedale Field Office, 1625 West Pine Street, P.O. Box 768, Pinedale, Wyoming 82941; 307-367-5328, or e-mail: shelley_gregory@blm.gov.

SUPPLEMENTARY INFORMATION: The PAWG is chartered under the Federal Advisory Committee Act (FACA) and tasked with providing balanced recommendations through consensus to the BLM on the development and implementation of monitoring plans, mitigation, and adaptive management decisions pertinent to oil and gas activities in the Pinedale Anticline Project Area.

PAWG members are expected to attend the scheduled PAWG meetings. Additional information about the PAWG, its membership and activities, and the nomination process can be found at: http://www.blm.gov/wy/st/en/field_offices/Pinedale/pawg.html.

Nominations are being solicited for the following positions:

1. An employee of a state agency responsible for the management of natural resources, land, or water; and

2. An affected member of the public-at-large.

Requisite nomination information is listed below and may be found at: http://www.blm.gov/wy/st/en/field_offices/Pinedale/pawg.html.

On June 25, 2008, the Secretary of the Interior renewed the PAWG Charter. The charter established membership selection criteria and operational procedures as follows:

1. The PAWG is comprised of nine members who reside in the State of Wyoming. The PAWG members will be appointed by and serve at the pleasure of the Secretary of the Interior.

2. All members should have a demonstrated ability to analyze and interpret data and information, evaluate proposals, identify problems, and promote the use of collaborative management techniques (Such as: Long-term planning, management across jurisdictional boundaries, data sharing, information exchange, and partnerships), and a knowledge of issues involving oil and gas development activities.

3. The service of the PAWG members shall be as follows:

a. The PAWG members will be appointed to 2-year terms, subject to removal by the Secretary of the Interior. At the Secretary's discretion, members may be reappointed to additional terms.

b. The Chairperson of the PAWG will be selected by the PAWG.

c. The term of the Chairperson will not exceed 2 years.

Nominations should contain the following information:

1. Representative category;

2. Full name;

3. Business address and phone number;

4. Home address and phone number;

5. Email address;

6. Occupation title;

7. Qualifications (education, including colleges, degrees, major fields of study and/or training);

8. Career highlights (significant related experience, civic and professional activities, elected offices, prior advisory committee experience, or career achievements related to the interest to be represented);

9. Experience in collaborative management techniques, such as long-term planning, management across jurisdictional boundaries, data sharing, information exchange, and partnerships;

10. Experience in data analysis and interpretation, problem identification, and evaluation of proposals;

11. Knowledge of issues involving oil and gas development;

12. List any leases, licenses, permits, contracts, or claims held by the Nominee that involve lands or resources administered by the BLM;

13. A minimum of two letters of reference from interest or organization to be represented;

14. Nominator's name, address, and telephone numbers (if not self-nominated); and

15. Date of nomination.

A group nominating more than one person should indicate its preferred order of appointment selection.

Note: The Obama Administration prohibits individuals who are currently federally registered lobbyists to serve on all FACA and non-FACA boards, committees or councils.

Donald A. Simpson,
State Director.

[FR Doc. 2010-16251 Filed 7-1-10; 8:45 am]

BILLING CODE 4310-22-P